POSTAL SERVICE

Transfer of Inbound Market Dominant Exprès Service Agreement 1, Inbound Market Dominant Registered Service Agreement 1, Inbound PRIME Tracked Service Agreement, Australia Post Bilateral, and Canada Post Bilateral to Competitive Product List

AGENCY: Postal Service™.

ACTION: Notice.

SUMMARY: The Postal Service hereby provides notice that it filed a request with the Postal Regulatory Commission to transfer the Inbound Market Dominant Exprès Service Agreement 1, Inbound Market Dominant Registered Service Agreement 1, Inbound PRIME Tracked Service Agreement, Australian Postal Corporation—United States Postal Service Bilateral Agreement, and Canada Post Corporation—United States Postal Service Bilateral Agreement from the market dominant product list to the competitive product list, which would involve removing the five agreements from the market dominant product list and adding them to the competitive product list.

DATES: December 19, 2019.

FOR FURTHER INFORMATION CONTACT: Christopher C. Meyerson, 202-268-7820.

SUPPLEMENTARY INFORMATION: On December 13, 2019, the United States Postal Service® filed with the Postal Regulatory Commission the United States Postal Service Request to Transfer the Inbound Market Dominant Exprès Service Agreement 1, Inbound Market Dominant Registered Service Agreement 1, Inbound PRIME Tracked Service Agreement, Australian Postal Corporation—United States Postal Service Bilateral Agreement, and Canada Post Corporation—United States Postal Service Bilateral Agreement to the Competitive Product List, pursuant to 39 U.S.C. 3642. Documents pertinent to this request are available at http://www.prc.gov, Docket No. MC2020-73.

Christopher C. Meyerson,
Attorney, Corporate and Postal Business Law.

[FR Doc. 2019-27386 Filed 12-18-19; 8:45 am]

BILLING CODE 7710-12-P